FEDERAL COMMUNICATIONS COMMISSION

[Report No. 2596]

Petitions for Reconsideration and Clarification of Action in Rulemaking Proceedings

March 3, 2003.

Petitions for Reconsideration and Clarification have been filed in the Commission's rulemaking proceedings listed in this public notice and published pursuant to 47 CFR 1.429(e). The full text of this document is available for viewing and copying in Room CY-A257, 445 12th Street, SW., Washington, DC or may be purchased from the Commission's copy contractor, Qualex International, (202) 863-2893. Oppositions to these petitions must be filed by March 24, 2003. See section 1.4(b)(1) of the Commission's rules (47 CFR 1.4(b)(1)). Replies to an opposition must be filed within 10 days after the time for filing oppositions has expired.

Subject: Revision of the Commission's rules to ensure compatibility with Enhanced 911 Emergency Calling Systems (CC Docket No. 94-102).

Number of Petitions Filed: 3.

Subject: Review of the Commission's Broadcast and Cable Equal Employment Opportunity rules and policies (MM Docket No. 98-204).

Number of Petitions Filed: 3.

Marlene H. Dortch,
Secretary.

[FR Doc. 03-5397 Filed 3-6-03; 8:45 am]

BILLING CODE 6712-01-M